FEDERAL COMMUNICATIONS COMMISSION

47 CFR Part 26

[WT Docket No. 24-687; DA 24-1230; FRS 268462]

Wireless Telecommunications Bureau Seeks Comment on Mechanism and Criteria for Selecting Space Launch Frequency Coordinator

AGENCY: Federal Communications Commission.

ACTION: Notification.

SUMMARY: In this Public Notice, the Wireless Telecommunications Bureau (Bureau) makes proposals and seeks comment on criteria and a mechanism for selecting a Space Launch Frequency Coordinator for the Federal Communications Commission's (Commission) Space Launch Service. In particular, it proposes a process in which interested parties would file applications electronically using the Commission's Electronic Comment Filing System in WT Docket 24-687, through which they would demonstrate certain minimum qualifying criteria. Filers responding to this Public Notice should submit comments in WT Docket No. 24-687.

DATES: Interested parties may file comments on or before January 22, 2025.

ADDRESSES: You may submit comments, identified by WT Docket No. 24-687, by any of the following methods:

• Comments may be filed using the Commission's Electronic Comment Filing System (ECFS).

• Electronic Filers: Comments may be filed electronically using the internet by accessing ECFS: https://www.fcc.gov/ecfs/.

• Paper Filers: Parties who choose to file by paper must file an original and one copy of each filing.

○ Filings can be sent by hand or messenger delivery, by commercial overnight courier, or by First-Class or overnight U.S. Postal Service mail. All filings must be addressed to the Commission's Secretary, Office of the Secretary, Federal Communications Commission.

○ All hand-delivered or messenger-delivered paper filings for the Commission's Secretary are accepted between 8 a.m. and 4 p.m. at 9050 Junction Drive, Annapolis Junction, MD 20701. All hand deliveries must be held together with rubber bands or fasteners. Any envelopes and boxes must be disposed of before entering the building.

○ Commercial overnight deliveries (other than U.S. Postal Service Express Mail and Priority Mail) must be sent to 9050 Junction Drive, Annapolis Junction, MD 20701.

U.S. Postal Service First-Class, Express, and Priority mail must be addressed to Secretary, Federal Communications Commission, 45 L St. NE, Washington, DC 20554.

FOR FURTHER INFORMATION CONTACT: Mark DeSantis, Wireless Telecommunications Bureau, Mobility Division, (202) 418-0678 or mark.desantis@fcc.gov. For information regarding the PRA information collection requirements, contact Cathy Williams, Office of Managing Director, at 202-418-2918 or Cathy.Williams@fcc.gov.

SUPPLEMENTARY INFORMATION: This is a summary of the WTB Public Notice, WT Docket No. 24-687; DA 24-1230, released on December 6, 2024. The released, formatted version of this document is available at https://docs.fcc.gov/public/attachments/DA-24-1230A1.pdf. Text and Microsoft Word formats are also available (replace “.pdf” in the link with “.txt” or “.docx”, respectively. Alternative formats are available for people with disabilities (braille, large print, electronic files, audio format), by sending an email to fcc504@fcc.gov or call the Commission's Consumer and Governmental Affairs Bureau at (202) 418-0530 (voice), (202) 418-0432 (TTY).

Ex Parte Rules

The proceeding this Public Notice initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made; and (2) summarize all data presented and arguments made during the presentation. If the presentation consisted in whole or in part of the presentation of data or arguments already reflected in the presenter's written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b) of the Commission's rules. In proceedings governed by § 1.49(f) of the rules or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Supplemental Initial Regulatory Flexibility Analysis

The Regulatory Flexibility Act of 1980, as amended (RFA), requires that an agency prepare a regulatory flexibility analysis for notice and comment rulemakings, unless the agency certifies that the rule will not, if promulgated, have a significant economic impact on a substantial number of small entities.” If an agency files a certification with a rulemaking, the certification must contain a statement that provides a factual basis for its conclusion that there will not be significant economic impact on a substantial number of small entities. Accordingly, the Commission has prepared an Initial Regulatory Flexibility Certification (IRFC) certifying that any rules subject to the RFA that may be contained in this Public Notice will not have a significant economic impact on a substantial number of small entities.

Paperwork Reduction Act Analysis

This Public Notice may contain proposed modified information collection requirements. The Commission, as part of its continuing effort to reduce paperwork burdens, invites the general public and the Office of Management and Budget to comment on the information collection requirements contained in this Public Notice, as required by the Paperwork Reduction Act of 1995, Public Law 104-13. In addition, pursuant to the Small Business Paperwork Relief Act of 2002, Public Law 107-198, see 44 U.S.C. 3506(c)(4), we seek specific comment on how we might further reduce the information collection burden for small business concerns with fewer than 25 employees.

Synopsis

By this Public Notice, as directed by the Commission in the Second Report and Order (89 FR 63296-01, August 5, 2024) in this proceeding, the Wireless Telecommunications Bureau (Bureau) proposes and seeks comment on the mechanism and criteria for selecting the third-party frequency coordinator for the new commercial Space Launch Service. After reviewing the record, the Bureau will issue subsequent public notice(s) that announces the criteria for selection of the frequency coordinator, as well as a filing window for submission of applications to serve as the space launch frequency coordinator. The Bureau also proposes that the applicant selected to serve as the third-party space launch frequency coordinator will be required to execute a Memorandum of Understanding with the Commission. The Bureau issues this Public Notice at this time as part of an effort to meet the statutorily mandated deadlines set forth in the Launch Communications Act.

I. Background

In the Second Report and Order, the Commission adopted a new secondary allocation in the 2025-2110 MHz band for non-Federal Space Operation and, for the 2200-2290 MHz band, made the entire band available for secondary non-Federal Space Operation. The Commission also adopted a licensing framework for these two bands under a new part 26 Space Launch Service. Under the framework, eligible space launch operators seeking authorization in either band will: (1) apply for and obtain a non-exclusive nationwide license in the Commission's Universal Licensing System (ULS); (2) register in ULS their launch sites and operational parameters, space launch vehicle stations, and each corresponding station (fixed, base, itinerant, or mobile) needed to support a launch; (3) complete a frequency coordination process using a third-party frequency coordinator; and (4) following successful coordination, register in ULS the technical and operating parameters associated with each specific coordinated launch prior to commencing operations. A space launch operator must register the final coordinated technical parameters in ULS to be authorized to commence launch operations. The Second Report and Order requires that a single third-party frequency coordinator shepherd both Federal and non-Federal coordination on a post-grant, per-launch basis. Requirements for the third-party frequency coordinator are set forth in Commission rule § 26.202, adopted in the Second Report and Order.

Federal Coordination. Pursuant to the Second Report and Order, Federal coordination is required on a per-launch basis in both the 2025-2110 MHz and 2200-2290 MHz bands, to be initiated after the launch operator has registered its applicable site and station information in ULS. Once the third-party frequency coordinator verifies that the operator is licensed and that the request is consistent with the Commission's rules, it will initiate coordination with the National Telecommunications and Information Administration (NTIA). For Federal coordination in both bands, the third-party frequency coordinator may provide a showing that the operational and technical parameters of a proposed launch are consistent with a prior successful coordination and that the space launch licensee continues to comply with any conditions or agreements resulting from such prior coordination, or that its proposed launch is covered by an applicable coordination agreement with co-frequency entities.

Non-Federal Coordination. Pursuant to the Second Report and Order, non-Federal coordination is required in the 2025-2110 MHz band. Once a launch operator has registered its site and station information and submitted its coordination request to the third-party frequency coordinator, the coordinator will verify that the operator is licensed and that the request is consistent with the Commission's rules, and then contact the Society of Broadcast Engineers (SBE) Frequency Coordination Manager and the relevant SBE local market coordinator to initiate coordination for the local launch site. There is no requirement to conduct per-launch coordination with non-Federal users in the 2025-2110 MHz band if the launch operator can demonstrate its proposed uplink operations meet the protection criteria by providing a showing to the third-party frequency coordinator that: (a) it has previously coordinated its proposed operations with the SBE Frequency Coordination Manager and continues to comply with any conditions or agreements resulting from such prior coordination; (b) it has ascertained that its proposal will not constrain, preclude, nor interfere with incumbents in the band, including Broadcast Auxiliary Service licensees, Cable Television Relay Service licensees, and Local Television Transmission Service licensees; and (c) it has demonstrated in a technical showing that its proposed operation will not create more than 0.5 dB increase in the noise threshold of a receiver at a fixed or temporary fixed electronic news gathering receive site.

Launch Communications Act. Following the Commission's adoption of the Second Report and Order, Congress enacted the Launch Communications Act (LCA) on September 26, 2024. The LCA requires Commission action with respect to three frequency bands: the 2025-2110 MHz and 2200-2290 MHz bands that were the subject of the Second Report and Order, and the 2360-2395 MHz band, upon which the Commission sought comment in the Second Further Notice (89 FR 6488-01, February 1, 2024). The LCA first requires the Commission to, within 90 days of enactment, allocate each of these bands on a secondary basis for commercial space launches and reentries, and complete any proceeding in effect related to the adoption of service rules for these three bands. In order to meet the 90-day requirement, we anticipate that the Commission would benefit from development of a record that includes the issues included in this Public Notice.

In a companion Public Notice published elsewhere in this issue of the Federal Register, the Bureau on delegated authority proposes and seeks comment on licensing and coordination procedures for the space launch service, which currently applies to the 2025-2110 MHz and 2200-2290 MHz bands. In the event the Commission incorporates the 2360-2395 MHz band into the part 26 Space Launch Service licensing framework, the Bureau also includes in that separate Public Notice proposed licensing and coordination procedures for the 2360-2395 MHz band. We take the same approach in this Public Notice, where any proposals assume that a third-party frequency coordinator will have responsibilities to coordinate, per the LCA, requests for space launch operations in three bands: 2025-2110 MHz MHz, 2200-2290 MHz, and 2360-2395 MHz. We note that any such procedures, data requirements etc., set forth in this and the Bureau's companion Public Notice, are subject to Commission action taken pursuant to the LCA's requirements.

The LCA also requires the Commission to issue, within 180 days of the LCA's enactment, new regulations that streamline the process for granting authorizations for access to the three bands. These new regulations must provide for, among other things, improved coordination by the Commission with NTIA to increase the speed of review of space launch applications, including coordination to increase automation similar to the automation described in the Commission's service rules for the 70/80/90 GHz service. The 70/80/90 GHz service allows use of the millimeter wave spectrum in the 71-76 GHz, 81-86 GHz, and 92-95 GHz bands on a shared basis with Federal operations. A licensee seeking authorization in those bands must complete coordination with NTIA by registering individual links in a database administered by third-party database managers. The database managers have access to NTIA's automated coordination mechanism, and the database serves as a clearinghouse and repository of site path information to manage the coordination of Federal Government operations and non-Federal Government links. Given the LCA's requirement that, within 180 days of enactment, the Commission improve coordination with NTIA for space launch operations by increasing automation, we propose below to require the Space Launch Frequency Coordinator to have the willingness and capability to interface with any such automated process developed by NTIA for coordination of requests related to space launch operation in any of the three LCA bands.

In the interim, the Bureau hereby fulfills the Commission's directive from the Second Report and Order to seek comment on the circumstances attending the designation of the space launch frequency coordinator. To reiterate, these proposals and any subsequent final action taken through subsequent Bureau public notice(s) following review of the record, including those specifically relating to the 2360-2395 MHz band, are subject to forthcoming Commission action taken pursuant to the LCA's requirements.

II. Selecting the Space Launch Frequency Coordinator

The Bureau proposes and seeks comment on the mechanism for selecting the space launch frequency coordinator and the minimum industry and technical expertise that parties interested in being designated as the space launch frequency coordinator must demonstrate. After reviewing the record developed in response to this Public Notice, the Bureau will issue subsequent public notice(s) announcing the mechanism and criteria for selection of the frequency coordinator, as well as a filing window for applications to serve as space launch frequency coordinator. The Bureau proposes that the applicant selected from this process to serve as space launch frequency coordinator will be required to execute a Memorandum of Understanding with the Commission, formally memorializing its duties and obligations.

A. Mechanism for Selection of the Space Launch Frequency Coordinator

First, we propose to rely on a mechanism for selecting a third-party frequency coordinator similar to those we have successfully implemented in other radio services where the Bureau was tasked with designating a single frequency coordinator. Following those prior examples, we propose to require interested parties to file applications electronically using the Commission's Electronic Comment Filing System (ECFS) in WT Docket 24-687, that include the following information:

1. A description of the entity requesting to be space launch frequency coordinator and its qualifications, including how it meets or will meet minimum qualifying criteria ultimately specified by the Bureau;

2. How the applicant will prevent conflicts of interest;

3. A proposed fee structure; and

4. The length of time before the applicant will be able to begin duties as the space launch frequency coordinator.

We seek comment on this approach, including on the information interested parties should file, and whether additional information should be required to assist the Bureau in making a selection. How should conflicts of interest be defined? How can we ensure that the frequency coordinator administers its responsibilities in a neutral and non-discriminatory manner? Should the Bureau impose any limits on fee structures, including whether fees can be charged on a per application basis, or adopt any deadline by which an applicant must be able to begin its duties as the space launch frequency coordinator? How should applicants demonstrate an ability to complete frequency coordination using an NTIA automated process, one of the minimum qualifying criteria proposed below, such that the Commission can fulfill its statutory obligation to increase automation in NTIA coordination similar to the automation in the 70/80/90 GHz service rules?

B. Minimum Qualifying Criteria

Next, we propose minimum qualifying criteria for entities interested in being designated as the space launch frequency coordinator. Interested parties would be required to demonstrate in their applications the extent to which they meet the following qualifications:

1. Ability to implement a mechanism to receive technical data from licensees and maintain a database of transmitter locations and operational parameters;

2. Knowledge of or experience with wireless telemetry;

3. Knowledge of or experience with space launch and aerospace transmissions;

4. Technical expertise in analyzing and avoiding interference between licensees/operators in various frequency bands;

5. Knowledge of frequency coordination processes;

6. Willingness and capability to complete coordination using machine-to-machine interface with any NTIA automated coordination process, and the ability to promptly notify the licensee of the response from the automated coordination process;

7. Ability to address requests for operation at launch sites that potentially could be located anywhere in the United States and its territories; and

8. Experience analyzing and interpreting FCC rules and policies.

The Bureau seeks comment on the above proposals and any alternatives to the proposed selection mechanism and minimum qualifying criteria.

Federal Communications Commission.
Amy Brett,
Acting Chief of Staff, Wireless Telecommunications Bureau.

[FR Doc. 2024-30244 Filed 12-20-24; 8:45 am]

BILLING CODE 6712-01-P